NATIONAL ARCHIVES AND RECORDS ADMINISTRATION

36 CFR Part 1228

RIN 3095-AB41

Records Management; Unscheduled Records

AGENCY: National Archives and Records Administration (NARA).

ACTION: Proposed rule.

SUMMARY: NARA is seeking comments from Federal agencies and the public on a proposed revision to our regulations to allow unscheduled records to be transferred to records storage facilities. These changes would allow agencies to transfer unscheduled records in a timely manner.

DATES: Submit comments on or before November 16, 2004.

ADDRESSES: NARA invites interested persons to submit comments on this proposed rule. Please include “Attn: 3095-AB41” and your name and mailing address in your comments. Comments may be submitted by any of the following methods:

• Federal eRulemaking Portal: http://www.regulations.gov. Follow the instructions for submitting comments.

• E-mail: Send comments to comments@nara.gov. If you do not receive a confirmation that we have received your e-mail message, contact Cheryl Stadel-Bevans at (301) 837-3021.

• Fax: Submit comments by facsimile transmission to (301) 837-0319.

• Mail: Send comments to Regulations Comments Desk (NPOL), Room 4100, Policy and Communications Staff, National Archives and Records Administration, 8601 Adelphi Road, College Park, MD 20740-6001.

• Hand Delivery or Courier: Deliver comments to 8601 Adelphi Road, College Park, MD.

FOR FURTHER INFORMATION CONTACT: Cheryl Stadel-Bevans at telephone number (301) 837-3021 or fax number (301) 837-0319.

SUPPLEMENTARY INFORMATION:

Background on Proposed Regulation Changes

As part of NARA's Records Management Initiatives to redesign Federal records management, NARA has determined that Federal agencies should be allowed to transfer unscheduled records to records storage facilities after notification to NARA but in advance of submitting a Standard Form (SF) 115 to schedule the records. The proposed rule does not change the prohibition on destruction of records without an approved SF 115. The existing regulation requires agencies to develop and submit the SF 115 prior to transferring records into a records storage facility. We believe that the proposed change would facilitate agency operations.

This proposed rule is not a significant regulatory action for the purposes of Executive Order 12866 and has not been reviewed by the Office of Management and Budget (OMB). As required by the Regulatory Flexibility Act, it is hereby certified that this proposed rule will not have a significant impact on a substantial number of small entities because this rule applies to Federal agencies. This proposed rule does not have any federalism implications.

List of Subjects in 36 CFR Part 1228

Archives and records.

For the reasons set forth in the preamble, NARA proposes to amend chapter XII of title 36 of the Code of Federal Regulations as follows:

PART 1228—DISPOSITION OF FEDERAL RECORDS

1. The authority for Part 1228 continues to read as follows:

Authority: 44 U.S.C. chs. 21, 29, and 33.

2. Amend § 1228.152 by revising the entry in the table for item (2)(ii) to read as follows:

§ 1228.152 Under what conditions may Federal records be stored in records storage facilities?

* * * * *

Type of record | Conditions
* * * * *
(2) * * * | (i) * * *.
| (ii) Also requires prior notification to NARA (see § 1228.154(b)).

* * * * *

3. Amend § 1228.154 by revising paragraphs (b) and (c)(1)(vii) to read as follows:

§ 1228.154 What requirements must an agency meet when it transfers records to a records storage facility?

* * * * *

(b) To transfer unscheduled records, notify NARA (NWML) in writing prior to the transfer. The notification must identify the records storage facility and include a copy of the information required by paragraph (c) of this section.

* * * * *

(c) * * *

(1) * * *

(vii) Citation to NARA-approved schedule or agency records disposition manual (unscheduled records must cite the date the agency notified NARA or, if available, the date the SF 115 was submitted to NARA);

* * * * *

Dated: September 9, 2004.
John W. Carlin,
Archivist of the United States.

[FR Doc. 04-20929 Filed 9-16-04; 8:45 am]

BILLING CODE 7515-01-P